DEPARTMENT OF COMMERCE

International Trade Administration

[A-552-801]

Import Administration; Certain Frozen Fish Fillets From Vietnam: Extension of Time Limit for Final Results of Changed Circumstances Review

DATES: Effective Date: October 10, 2008.

FOR FURTHER INFORMATION CONTACT: Javier Barrientos, AD/CVD Operations, Office 9, Import Administration, International Trade Administration, U.S. Department of Commerce, 14th Street and Constitution Avenue NW., Washington, DC 20230; telephone: (202) 482-2243.

SUPPLEMENTARY INFORMATION: On August 10, 2007, the Department of Commerce (the Department) issued its preliminary results for the changed circumstances review of the antidumping duty order of certain frozen fish fillets from Vietnam. See Certain Frozen Fish Fillets From Vietnam: Notice of Initiation and Preliminary Results of Changed Circumstances Review, 72 FR 46604 (August 21, 2007) (Preliminary Results). On May 6, 2008, the Department published a notice extending the time limits for the changed circumstances review of the antidumping duty order of certain frozen fish fillets from Vietnam. See Certain Frozen Fish Fillets From Vietnam: Extension of Time Limit for Final Results of Changed Circumstances Review, 73 FR 28100 (May 15, 2008) (“First Extension”). On July 10, 2008, the Department published a second notice extending the time limits for the changed circumstances review of the antidumping duty order of certain frozen fish fillets from Vietnam. See Certain Frozen Fish Fillets From Vietnam: Extension of Time Limit for Final Results of Changed Circumstances Review, 73 FR 39669 (July 10, 2008) (“Second Extension”). The current deadline for the final results of this review is October 6, 2008.

Extension of Time Limits for Final Results

In our Preliminary Results, we indicated we would issue the final results in the instant review within 270 days after the date on which the changed circumstances review is initiated. The Department finds that it is not practicable to complete this review by the current deadline. Subsequent to the Preliminary Results, and receipt of Vinh Hoan Co., Ltd./Corp.'s and Petitioners' (the Catfish Farmers of America and individual U.S. catfish processors) case briefs, the Department requested and received new information from Vinh Hoan. Moreover, Vinh Hoan requested an extension to the time limit for submission of this new information. In addition, the Department will be providing interested parties an opportunity to comment on this new information. Consequently, in accordance with 19 CFR 351.302(b), the Department is extending the time period for issuing the final results in the instant review by 60 days. Therefore, the final results will be due no later than December 5, 2008.

This notice is published in accordance with section 771(i) of the Tariff Act of 1930, as amended.

Dated: October 2, 2008.
Stephen J. Claeys,
Deputy Assistant Secretary for Import Administration.

[FR Doc. E8-24200 Filed 10-9-08; 8:45 am]

BILLING CODE 3510-DS-P